SMALL BUSINESS ADMINISTRATION

National Small Business Development Center Advisory Board Public Meeting

The U.S. Small Business Administration National Small Business Development Center Advisory Board will be hosting a public meeting via conference call to discuss such matters that may be presented by members, and the staff of the U.S. Small Business Administration or interested others. The conference call will take place on Tuesday, April 29, 2005, at 1 p.m. eastern standard time.

Anyone wishing to make an oral presentation to the Board must contact Dionna Martin, Senior Program Manager, U.S. Small Business Administration, Office of Small Business Development Center, 409 3rd Street, SW., Washington, DC 20416, telephone: (202) 205-7042; fax (202) 481-1671.

Matthew K. Becker,
Committee Management Officer.

[FR Doc. 05-5944 Filed 3-24-05; 8:45 am]

BILLING CODE 8025-01-P